DEPARTMENT OF THE INTERIOR

National Park Service

[NPS-WASO-NRSS-0211-9466; 2340-N003-NYS]

Proposed Information Collection; Comment Request: Creating Stewardship Through Biodiversity Discovery in National Parks

AGENCY: National Park Service (NPS), Interior.

ACTION: Notice; request for comments.

SUMMARY: We (National Park Service) will ask the Office of Management and Budget (OMB) to approve the information collection (IC) described below. This collection will survey participants of Biodiversity Discovery efforts. To comply with the Paperwork Reduction Act of 1995 and as a part of our continuing efforts to reduce paperwork and respondent burden, we invite the general public and other federal agencies to comment on this IC. The PRA (44 U.S.C. 3501, et seq.) provides that we may not conduct or sponsor and a person is not required to respond to a collection unless it displays a currently valid OMB control number and current expiration date.

DATES: Please submit your comment on or before April 9, 2012.

ADDRESSES: Please send your comments to the IC to Phadrea Ponds, Information Collections Coordinator, National Park Service, 1201 Oakridge Drive, Fort Collins, CO 80525 (mail); or phadrea_ponds@nps.gov (email). Please reference Information Collection 1024-NEW, BIODISCOVERY in the subject line.

FOR FURTHER INFORMATION CONTACT: Gerard Kyle by mail at Texas A&M University, 2261 TAMU, College Station, TX 77843 or gerard@tamu.edu (email). Or contact: Kirsten Leong at Kirsten_Leong@nps.gov (email).

SUPPLEMENTARY INFORMATION:

I. Abstract

Biodiversity Discovery refers to a variety of efforts to discover living organisms through public involvement. Examples include Bioblitzes and All Taxa Biodiversity Inventories (ATBIs). A Bioblitz is a field study where NPS and other scientists lead members of the public in an intensive 24-hour (or 48-hour) biological inventory to identify and record all species of living organisms in a given area. The term “Bioblitz” was coined by NPS naturalist Susan Rudy while assisting with the first Bioblitz at Kenilworth Aquatic Gardens in Washington DC in 1996. Approximately 1,000 species were identified at that event. The first All Taxa Biodiversity Inventory began in Great Smoky Mountains National Park in 1998 and is still ongoing. The effort has engaged hundreds of participants and resulted in the discovery of thousands of species, including many that are new records for the park. In addition to collecting taxonomic data, there appears to be important secondary benefits gained by visitors who have taken part in Biodiversity Discovery activities. A 2009 study found that such participants felt an increased sense of stewardship, a connection to the host park, and a better understanding about the species of concern after their Biodiversity Discovery experience. The information collected will provide NPS managers and planners with a greater understanding of public attitudes, preferences, and behaviors related to stewardship and resource conservation in their National Parks.

II. Data

OMB Control Number: None. This is a new collection.

Title: Creating Stewardship through Biodiversity Discovery in National Parks.

Type of Request: New.

Affected Public: General public.

Respondent's Obligation: Voluntary.

Frequency of Collection: Annually.

Estimated Annual Number of Respondents: 300.

Estimated Total Annual Burden Hours: 150 hours. We expect to receive 300 annual responses. We estimate an average of 30 minutes per response.

Estimated Reporting and Recordkeeping “Non-Hour Cost” Burden: None.

Comments: We invite comments concerning this IC on: (1) Whether or not the proposed collection of information is necessary for the agency to perform its duties, including whether or not the information will have practical utility; (2) the accuracy of our estimate of the burden for this collection of information; (3) ways to enhance the quality, utility, and clarity of the information to be collected; and (4) ways to minimize the burden of the collection of information on respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 3, 2012.
Madonna L Baucum,
Acting Information Collection Clearance Officer, National Park Service.

[FR Doc. 2012-2932 Filed 2-8-12; 8:45 am]

BILLING CODE 4312-52-P